DEPARTMENT OF DEFENSE

Department of the Army

Availability of U.S. Patents for Non-Exclusive, Exclusive, or Partially-Exclusive Licensing

AGENCY: Army Research Laboratory, DoD.

ACTION: Notice.

SUMMARY: In accordance with 37 CFR 404.6, announcement is made of the availability of the following U.S. patent for non-exclusive, partially exclusive or exclusive licensing. The listed patent has been assigned to the United States of America as represented by the Secretary of the Army, Washington, D.C.

These patents cover a wide variety of technical arts including: An apparatus for determining the thickness of a wall or coal seam and a traveling array antenna, which operates at microwave/millimeter frequencies.

Under the authority of section 11(a)(2) of the Federal Technology Transfer Act of 1986 (Pub. L. 99-502) and Section 207 of Title 35, United States Code, the Department of the Army as represented by the U.S. Army Research Laboratory wish to license the U.S. patent listed below in a non-exclusive, exclusive or partially exclusive manner to any party interested in manufacturing, using, and/or selling devices or processes covered by this patent.

Title: High Performance Traveling Wave Antenna for Microwave and Millimeter Wave Applications.

Inventors: Thomas Koscica and Duc Huynh.

Patent Number: 6,094,172.

Issued Date: July 25, 2000.

Title: Acoustic Navigation Aid for Autonomous Coal Miner.

Inventors: Donald E. Wortman and John D. Bruno.

Patent Number: 6,094,986.

Issued Date: August 1, 2000.

FOR FURTHER INFORMATION CONTACT: Norma Cammaratta, Technology Transfer Office, AMSRL-CS-TT, U.S. Army Research Laboratory, Adelphi, MD 20783-1197 tel: (301) 394-2952; fax: (301) 394-5818.

SUPPLEMENTARY INFORMATION: None.

Gregory D. Showalter,
Army Federal Register Liaison Officer.

[FR Doc. 00-25069 Filed 9-28-00; 8:45 am]

BILLING CODE 3710-08-M